DEPARTMENT OF THE INTERIOR

Office of the Secretary

43 CFR Part 12

RIN 1090-AA67

Administrative and Audit Requirements and Cost Principles for Assistance Programs

AGENCY: Office of the Secretary, Interior.

ACTION: Correcting amendment.

SUMMARY: This document corrects the final rule published June 16, 2000 which adopted as final an interim rule published December 27, 1999. The rule related to encouraging the use of seat belts in response to Executive Order 13043.

DATES: Effective on July 17, 2000.

FOR FURTHER INFORMATION CONTACT: Debra E. Sonderman, (Director, Office of Acquisition and Property Management), (202) 208-6431.

SUPPLEMENTARY INFORMATION:

Need for Correction

As published on June 16, 2000 (65 FR 37702), the rule indicated that the interim rule amending 43 CFR part 12 that was published at 64 FR 72287 on December 27, 1999, was adopted as final without change. Because a change was in fact made to 43 CFR 12.2(e)(3), we are publishing this document to reflect that change.

List of Subjects in 43 CFR Part 12

Administrative practice and procedure, Contract programs, Cooperative agreements, Grant programs, Grants administration, Reporting and recordkeeping requirements.

Dated: June 20, 2000.
Lisa Guide,
Deputy Assistant Secretary for Policy and International Affairs.

Part 12 of title 43 of the Code of Federal Regulations is amended as follows:

PART 12—ADMINISTRATIVE AND AUDIT REQUIREMENTS AND COST PRINCIPLES FOR ASSISTANCE PROGRAMS

1. The authority for part 12 continues to read as follows:

Authority: 5 U.S.C. 301; 31 U.S.C. 6101 note, 7501; 41 U.S.C. 252a, 701 et seq; Pub. L. 104-256, 110 Stat. 1396; sec. 501, Pub. L. 105-62, 111 Stat. 1338; sec. 503, Pub. L. 105-62, 111 Stat. 1339; sec. 303, Pub. L. 105-83, 111 Stat. 1589; sec. 307, Pub. L. 105-83, 111 Stat. 1590; E.O. 12549, 3 CFR, 1986 Comp., p. 189; E.O. 12674, 3 CFR, 1989 Comp., p. 215; E.O. 12689, 3 CFR, 1989 Comp., p. 235; E.O. 12731, 3 CFR, 1990 Comp., p. 306; E.O. 13043, 62 FR 19217; 3 CFR 1997 Comp., p. 195; OMB Circular A-102; OMB Circular A-110; and OMB Circular A-133.

Subpart A—Administrative and Audit Requirements and Cost Principles for Assistance Programs

2. Section 12.2 is corrected by revising the section heading and paragraph (e) to read as follows:

§ 12.2 What policies are financial assistance awards and subawards in the form of grants and cooperative agreements subject to?

* * * * *

(e) (1) What does Executive Order 13043, “Increasing Seat Belt Use in the United States,” dated April 16, 1997, do?

(i) If you are a Federal grantee, you are encouraged to—

(A) Adopt and enforce on-the-job seat belt use policies and programs for your employees when operating company-owned, rented, or personally owned vehicles.

(B) Conduct education, awareness, and other appropriate programs for your employees about the importance of wearing seat belts and the consequences of not wearing them.

(ii) [Reserved]

(2) When does the policy apply?

(i) If a grant/cooperative agreement is being awarded by the bureau/office of the Department—The policy applies.

(ii) If the recipient awards a grant or cooperative agreement to a subrecipient—The policy applies.

(3) What terms and conditions will be incorporated into the grant/cooperative agreement or sub-award, if use of a specific provision is desired and general applicability to 43 CFR Part 12 is not used instead?

(i) The following provision will be incorporated into the grant/cooperative agreement or sub-award:

The Seat Belt Provision

Recipients of grants/cooperative agreements and/or sub-awards are encouraged to adopt and enforce on-the-job seat belt use policies and programs for their employees when operating company-owned, rented, or personally owned vehicles. These measures include, but are not limited to, conducting education, awareness, and other appropriate programs for their employees about the importance of wearing seat belts and the consequences of not wearing them.

[End of Provision]

(ii) [Reserved]

[FR Doc. 00-16175 Filed 6-27-00; 8:45 am]

BILLING CODE 4310-RF-P